DEPARTMENT OF AGRICULTURE

Forest Service

Southwest Montana Resource Advisory Committee

AGENCY: Forest Service, Agriculture (USDA).

ACTION: Notice of meeting.

SUMMARY: The Southwest Montana Resource Advisory Committee (RAC) will hold two virtual meetings by phone and/or video conference. The committee is authorized under the Secure Rural Schools and Community Self-Determination Act (the Act) and operates in compliance with the Federal Advisory Committee Act. The purpose of the committee is to improve collaborative relationships and to provide advice and recommendations to the Forest Service concerning projects and funding consistent with Title II of the Act as well as to make recommendations on recreation fee proposals for sites on the Beaverhead-Deerlodge National Forest within Beaverhead, Jefferson, Madison, and Silver Bow Counties, consistent with the Federal Lands Recreation Enhancement Act. RAC information and virtual meeting information can be found at the following website: https://www.fs.usda.gov/main/bdnf/workingtogether/advisorycommittees.

DATES: The virtual meetings will be held on:

• December 13, 2021, 9:00 a.m.-12:00 p.m., Mountain Standard Time; and

• December 14, 2021, 9:00 a.m.-12:00 p.m., Mountain Standard Time.

All RAC meetings are subject to cancellation. For status of the meetings prior to attendance, please contact the person listed under FOR FURTHER INFORMATION CONTACT.

ADDRESSES: The meetings will be held virtually via telephone and/or video conference. Details on how members of the public can join the meetings can be found at the website link in the above Summary.

Written comments may be submitted as described under SUPPLEMENTARY INFORMATION. All comments, including names and addresses when provided, are placed in the record and are available for public inspection and copying. The public may inspect comments received upon request.

FOR FURTHER INFORMATION CONTACT: Cheri Ford, Designated Federal Officer (DFO), by phone at 406-683-3973 or email at cheri.ford@usda.gov or Jeanne Dawson, RAC Coordinartor, at 406-683-3987 or email at jeanne.dawson@usda.gov.

Individuals who use telecommunication devices for the deaf/hard-of-hearing (TDD) may call the Federal Relay Service (FRS) at 1-800-877-8339, 24 hours a day, every day of the year, including holidays.

SUPPLEMENTARY INFORMATION: The purpose of the meetings are to:

1. Hear from Title II project proponents and discuss Title II project proposals;

2. Make funding recommendations on Title II projects;

3. Discuss recreation fee proposals for developed recreation sites; and

4. Make recommendations on fees for the recreation fee proposals.

The meetings are open to the public. The agenda will include time for people to make oral statements of three minutes or less. Individuals wishing to make an oral statement should make a request in writing by Monday, November 29, 2021, to be scheduled on the agenda for a particular meeting. Anyone who would like to bring related matters to the attention of the committee may file written statements with the committee staff before or after the meeting. Written comments and requests for time for oral comments must be sent to Jeanne Dawson, RAC Coordinator, 420 Barrett Street, Dillon, MT 59725 or by email to jeanne.dawson@usda.gov.

Meeting Accommodations: Please make requests in advance for sign language interpreter services, assistive listening devices, or other reasonable accommodation. For access to proceedings, please contact the person listed in the section titled FOR FURTHER INFORMATION CONTACT. All reasonable accommodation requests are managed on a case-by-case basis.

Equal opportunity practices, in line with USDA policies, will be followed in all membership appointments to the RAC. To help ensure that recommendations of the RAC have taken into account the needs of the diverse groups served by the Department, membership shall include, to the extent practicable, individuals with demonstrated ability to represent minorities, women, and persons with disabilities.

The USDA prohibits discrimination in all of its programs and activities on the basis of race, color, national origin, religion, sex, gender identity (including gender expression), sexual orientation, disability, age, marital status, family/parental status, political beliefs, income derived from a public assistance program, or reprisal or retaliation for prior civil rights activity in any program or activity conducted or funded by USDA (not all bases apply to all programs).

Dated: November 12, 2021.
Cikena Reid,
USDA Committee Management Officer.

[FR Doc. 2021-25107 Filed 11-17-21; 8:45 am]

BILLING CODE 3411-15-P